NATIONAL TRANSPORTATION SAFETY BOARD

49 CFR Part 830

Notification and Reporting of Aircraft Accidents or Incidents and Overdue Aircraft, and Preservation of Aircraft Wreckage, Mail, Cargo, and Records

AGENCY: National Transportation Safety Board (NTSB).

ACTION: Notice of Proposed Rulemaking.

SUMMARY: The NTSB is proposing to amend 49 Code of Federal Regulations (CFR) Part 830, “Notification and Reporting of Aircraft Accidents or Incidents and Overdue Aircraft, and Preservation of Aircraft Wreckage, Mail, Cargo, and Records,” to include certain events that are not currently covered by the regulations. This amendment is intended to enhance aviation safety by providing the NTSB direct notification of these events so that we can investigate and take corrective actions in a timely manner.

DATES: Submit comments on or before February 25, 2005.

ADDRESSES: Mail comments concerning this proposed rule to Deepak Joshi, Lead Aerospace Engineer (Structures), National Transportation Safety Board, Room 5235, 490 L'Enfant Plaza, SW., Washington, DC 20594.

FOR FURTHER INFORMATION CONTACT: Deepak Joshi, (202) 314-6348.

SUPPLEMENTARY INFORMATION:

Proposed Revision to § 830.2, Definitions

Part 830 requires that an event that results in substantial damage to a civil or public aircraft not operated by the Armed Forces or an intelligence agency be reported to the NTSB. We are proposing to modify the current definition of substantial damage in § 830.2 by removing reference to ground damage to helicopter rotor blades from the list of exclusions. We believe this revision is necessary because the main rotor blades of a helicopter are the lifting surfaces of the aircraft and are considered to be equivalent to the wings of an airplane. The tail rotor blades of a helicopter provide yaw control and are analogous to the rudder control surface of an airplane. Any damage to main or tail rotor blades—regardless of how it occurs—will likely adversely affect the performance of the aircraft and, if so, should be considered substantial damage. Therefore, we are proposing to bring events involving ground damage to main or tail rotor blades within the definition of an accident and clearly make them reportable events.

Proposed Revision to § 830.5, Immediate Notification

The NTSB is proposing that the following events be added to the current list of events requiring immediate NTSB notification:

(a) Failure of any internal turbine engine component that results in the escape of debris other than out the exhaust path.

Currently, § 830.5(a)(3) excludes the failure of compressor and turbine blades and vanes from required NTSB notification. Although the NTSB requires notification of such an event if one of these components escapes and results in substantial damage to the aircraft or an in-flight fire, we believe that the failure of any internal turbine engine component that results in the escape of debris other than out the exhaust path warrants immediate NTSB notification because the high energy levels of exiting fragments pose a significant safety hazard to the aircraft and its occupants. The importance of protecting the aircraft from high-energy engine fragments is reflected in the Federal Aviation Regulations (notably § 23.903(b)(1), and § 33.19), which explicitly require design precautions to minimize hazards to the aircraft in the event of an engine rotor failure. In addition, § 33.75 requires that the engine's cases provide for the containment of damage from rotor blade failure.

The NTSB will investigate engine failures when the debris escapes through a path other than the exhaust regardless of whether such failures result in substantial damage to the airplane because of the safety implications. However, to initiate an investigation in these instances, we have to rely on the Federal Aviation Administration (FAA), the operator, or the engine manufacturer to notify us. Such notifications are not required and often are not provided. If notification is provided, it may not be timely. Accordingly, the NTSB proposes that § 830.5(a)(3) be revised to require that the failure of any internal turbine engine component that results in the escape of debris other than out the exhaust path be a reportable event (debris that exits the exhaust path and causes substantial damage or serious injury is reportable as an accident under § 830.5(a)(6)).

(b) Structural failure of a propeller resulting in the release of all or a portion of a propeller blade from an aircraft, excluding release caused solely by ground contact.

The current notification regulations do not ensure that the failure of a propeller blade resulting in the release of all or a portion of a blade from an aircraft will be reported to the NTSB. In some cases, the NTSB has been notified of an accident in which a structural failure of a propeller blade was an initiating event but only because the failure resulted in substantial damage or reportable injuries as defined in Part 830. If no substantial aircraft damage and no reportable injuries to the occupants have occurred because of such a failure and an uneventful landing is made, there is no requirement to notify the NTSB. Although substantial damage or serious injury may not result from a propeller blade failure, there may be airworthiness and safety issues that should be addressed.

For example, on January 12, 2002, an ATR-42 experienced a propeller blade failure during takeoff. The pilot was able to shut down the engine and make an uneventful landing. No significant aircraft damage was noted and no other factors made it a reportable event under § 830.5. However, the NTSB became aware of the failure and issued two safety recommendations (A-03-13 and -14) relating to inspection and repair of propeller blades as a direct result of its investigation.

Title 14 CFR 25.905 requires that design precautions be taken to minimize, among other hazards, airplane structural damage in the event of a propeller blade failure. However, the FAA has granted waivers to this rule because the airplane's structure is unable to withstand the forces of unbalance should a propeller blade separate. On August 21, 1995, an Embraer EMB-120 crashed following the separation of a propeller blade that broke the engine's mounts. Because the propeller is a critical part of the powerplant operation on these airplanes, the NTSB believes that there are safety benefits to be derived from requiring that a structural failure of a propeller resulting in the release of all or a portion of a propeller blade from an aircraft be included as a reportable event.

(c) Loss of information from a majority of an aircraft's certified electronic primary displays (excluding momentary inaccuracy or flickering from display systems that are certified installations).

Generally, in aircraft where electronic displays are used as primary displays, six or seven displays provide flight and engine information to flight crews. If one or two displays go blank, redundancy features allow for the remaining displays to be reconfigured and the aircraft to continue safe flight. However, if a majority of the displays malfunction, flight safety may be compromised. The NTSB has investigated two events (occurring on November 6, 2001, and January 24, 2003) in which all primary flight information and all engine information were lost, leaving only standby flight instruments and no standby engine instruments available. The current use of electronic displays to present flight and engine information has resulted in the loss of primary flight information through failure mechanisms that did not exist when 49 CFR part 830 was originally written.

(d) Any Airborne Collision and Avoidance System (ACAS) resolution advisories (RA) issued when an aircraft is being operated on an instrument flight rules (IFR) flight plan.

Because ACAS resolution advisories do not occur until aircraft are in relatively close proximity, RAs indicate a potential hazard in the air traffic control (ATC) system. Requiring that ACAS resolution advisories involving aircraft operating under IFR be subject to NTSB notification would assist us in detecting, tracking, and investigating these hazardous occurrences. Knowing about these incidents soon after they occur would ensure that radar and voice data are available when needed to support investigations of ACAS incidents.

List of Subjects in 49 CFR Part 830

Aircraft accidents or incidents and overdue aircraft notification and reporting, Aviation safety, Reporting and record-keeping requirements.

For the reasons set forth in the preamble, the National Transportation Safety Board proposes to amend 49 CFR Part 830 as set forth below:

PART 830—NOTIFICATION AND REPORTING OF AIRCRAFT ACCIDENTS OR INCIDENTS AND OVERDUE AIRCRAFT, AND PRESERVATION OF AIRCRAFT WRECKAGE, MAIL, CARGO, AND RECORDS

1. The Authority citation for Part 830 is proposed to be revised to read as follows:

Authority: Independent Safety Board Act of 1974, as amended (49 U.S.C. 1101 et seq.); Federal Aviation Act of 1958, as amended (49 U.S.C. 40101 et seq.).

2. Section 830.2 is amended by revising the definition of “substantial damage” to read as follows:

§ 830.2 Definitions.

* * * * *

Substantial damage means damage or failure which adversely affects the structural strength, performance, or flight characteristics of the aircraft, and which would normally require major repair or replacement of the affected component. Engine failure or damage limited to an engine if only one engine fails or is damaged, bent fairings or cowling, dented skin, small punctured holes in the skin or fabric, ground damage to propeller blades, and damage to landing gear, wheels, tires, flaps, engine accessories, brakes, or wingtips are not considered substantial damage for the purpose of this part.

3. Section 830.5 is amended by revising the introductory paragraph, revising paragraphs (a), (3), (4), and (5), and adding paragraphs (a)(8), (9), and (10).

§ 830.5 Immediate notification.

The operator of any civil aircraft, or any public aircraft not operated by the Armed Forces or an intelligence agency of the United States, or any foreign aircraft shall immediately, and by the most expeditious means available, notify the nearest National Transportation Safety Board (Board) regional office ¹ when:

¹ The Board regional offices are listed under U.S. Government in the telephone directories of the following cities: Anchorage, AK; Atlanta, GA; West Chicago, IL; Denver, CO; Arlington, TX; Gardena (Los Angeles), CA; Miami, FL; Parsippany, NJ (metropolitan New York City); Seattle, WA; and Washington, DC.

(a) An aircraft accident or any of the following listed incidents occur:

* * * * *

(3) Failure of any internal turbine engine component that results in the escape of debris other than out the exhaust path;

(4) In-flight fire;

(5) Aircraft collide in flight;

* * * * *

(8) Structural failure of a propeller resulting in the release of all or a portion of a propeller blade from an aircraft, excluding release caused solely by ground contact;

(9) Loss of information from a majority of an aircraft's certified electronic primary displays (excluding momentary inaccuracy or flickering from display systems that are certified installations);

(10) Any Airborne Collision and Avoidance System (ACAS) resolution advisories (RA) issued when an aircraft is being operated on an instrument flight rules (IFR) flight plan.

* * * * *

Dated: December 16, 2004.
Vicky D'Onofrio,
Federal Register Liaison Officer.

[FR Doc. 04-28148 Filed 12-23-04; 8:45 am]

BILLING CODE 7533-01-M